DEPARTMENT OF HOMELAND SECURITY

Coast Guard

33 CFR Part 165

[Docket No. USCG-2014-0563]

Safety Zone; Fireworks Events in the Captain of the Port New York Zone

AGENCY: Coast Guard, DHS.

ACTION: Notice of enforcement of regulation.

SUMMARY: The Coast Guard will enforce safety zones in the Captain of the Port (COTP) New York Zone on specified dates and times. These actions are necessary to ensure the safety of vessels and spectators from hazards associated with fireworks displays. During the enforcement periods, no person or vessel may enter the safety zones without permission from the COTP.

DATES: The regulations for the marine event listed in Table 1 to 33 CFR 165.160(4.4) will be enforced on October 5, 2014 from 6:50 p.m. through 8:10 p.m.

FOR FURTHER INFORMATION CONTACT: If you have questions on this notice, call or email Lieutenant Kristopher Kesting, Coast Guard; telephone 718-354-4154, email Kristopher.R.Kesting@uscg.mil.

SUPPLEMENTARY INFORMATION: The Coast Guard will enforce the safety zone listed in Table 1 to 33 CFR 165.160(4.4) on the specified date and time as indicated below. The regulation covering this safety zone was published in the Federal Register on November 9, 2011 (76 FR 69614).

Association of Indians in America Fireworks, Seaport, East River Safety Zone, 33 CFR 165.160(4.4) | • Launch site: All waters of the East River south of the Brooklyn Bridge and north of a line drawn from the southwest corner of Pier 3, Brooklyn, to the southeast corner of Pier 6, Manhattan.
| • Date: October 5, 2014.
| • Time: 6:50 p.m.-8:10 p.m.

Under the provisions of 33 CFR 165.160, a vessel may not enter a safety zone unless given express permission from the COTP or a designated representative. Spectator vessels may transit outside a safety zone but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that a safety zone need not be enforced for the full duration stated in this notice, a Broadcast Notice to Mariners may be used to grant general permission to enter the safety zone.

Dated: July 7, 2014.
G. Loebl,
Captain, U.S. Coast Guard, Captain of the Port New York.

[FR Doc. 2014-17598 Filed 7-24-14; 8:45 am]

BILLING CODE 9110-04-P